Memorandum of January 27, 2017

Rebuilding the U.S. Armed Forces

Memorandum for the Secretary of Defense [and] the Director of the Office of Management and Budget

By the authority vested in me as President by the Constitution and the laws of the United States, including my authority as Commander in Chief of the Armed Forces of the United States, I hereby direct the following:

Section 1. Policy. To pursue peace through strength, it shall be the policy of the United States to rebuild the U.S. Armed Forces.

Sec. 2. Readiness. (a) The Secretary of Defense (Secretary) shall conduct a 30-day Readiness Review. As part of this review, the Secretary shall:

(i) assess readiness conditions, including training, equipment maintenance, munitions, modernization, and infrastructure; and

(ii) submit to the President a report identifying actions that can be implemented within the current fiscal year and that are necessary to improve readiness conditions.

(b) Concurrently with the Readiness Review, the Secretary, together with the Director of the Office of Management and Budget (OMB), shall develop a Fiscal Year (FY) 2017 budget amendment for military readiness, including any proposed reallocations.

(c) The Secretary shall work with the Director of OMB to develop levels for the Department of Defense's FY 2018 budget request that are necessary to improve readiness conditions and address risks to national security.

(d) Within 60 days of the date of this order, the Secretary shall submit to the President a plan of action to achieve the levels of readiness identified in the Secretary's Readiness Review before FY 2019. That plan of action shall address areas for improvement, including insufficient maintenance, delays in acquiring parts, access to training ranges, combatant command operational demands, funding needed for consumables (e.g., fuel, ammunition), manpower shortfalls, depot maintenance capacity, and time needed to plan, coordinate, and execute readiness and training activities.

Sec. 3. Rebuilding the U.S. Armed Forces. (a) Upon transmission of a new National Security Strategy to Congress, the Secretary shall produce a National Defense Strategy (NDS). The goal of the NDS shall be to give the President and the Secretary maximum strategic flexibility and to determine the force structure necessary to meet requirements.

(b) The Secretary shall initiate a new Nuclear Posture Review to ensure that the United States nuclear deterrent is modern, robust, flexible, resilient, ready, and appropriately tailored to deter 21st-century threats and reassure our allies.

(c) The Secretary shall initiate a new Ballistic Missile Defense Review to identify ways of strengthening missile-defense capabilities, rebalancing homeland and theater defense priorities, and highlighting priority funding areas.

Sec. 4. General Provisions. (a) Nothing in this memorandum shall be construed to impair or otherwise affect:

(i) the authority granted by law to an executive department or agency, or the head thereof; or

(ii) the functions of the Director of OMB relating to budgetary, administrative, or legislative proposals.

(b) This memorandum shall be implemented consistent with applicable law and subject to the availability of appropriations.

(c) All actions taken pursuant to this memorandum shall be consistent with requirements and authorities to protect intelligence and law enforcement sources and methods. Nothing in this order shall be interpreted to supersede measures established under authority of law to protect the security and integrity of specific activities and associations that are in direct support of intelligence and law enforcement operations.

(d) This memorandum is not intended to, and does not, create any right or benefit, substantive or procedural, enforceable at law or in equity by any party against the United States, its departments, agencies, or entities, its officers, employees, or agents, or any other person.

(e) The Secretary is hereby authorized and directed to publish this memorandum in the Federal Register.

THE WHITE HOUSE,

Washington, January 27, 2017

[FR Doc. 2017-02282

Filed 1-31-17; 11:15 am]

Billing code 5001-06-P